FEDERAL COMMUNICATIONS COMMISSION

47 CFR Part 73

[DA 01-1153; MM Docket Nos. 01-33; RM-10060]

Radio Broadcasting Services; Caro, and Cass City, MI

AGENCY: Federal Communications Commission.

ACTION: Final rule.

SUMMARY: The Commission, at the request of Edwards Communications, L.C., licensee of Station WIDL(FM),Caro, Michigan, grants the substitution of Channel 221C3 for Channel 221A at Caro, Michigan, and the reallotment of Channel 221C3 from Caro to Cass City, Michigan. Channel 221C3 is allotted at Cass City in compliance with the Commission's minimum distance separation requirements, with respect to domestic allotments, at a site 4.9 kilometers (3.0 miles) northeast of the community at coordinates 48-38-20 NL and 83-08-38 WL. A counterproposal filed by Edward Czelada is dismissed as defective.

DATES: Effective June 18, 2001.

FOR FURTHER INFORMATION CONTACT: Victoria M. McCauley, Mass Media Bureau, (202) 418-2180.

SUPPLEMENTARY INFORMATION: This is a synopsis of the Commission's Report and Order, MM Docket No. 01-33, adopted April 25, 2001, and released May 4, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

PART 73—RADIO BROADCAST SERVICES

1. The authority citation for Part 73 continues to read as follows:

Authority: 47 U.S.C. 154, 303, 334 and 336.

§ 73.202 [Amended]

2. Section 73.202(b), the Table of FM Allotments under Michigan is amended by removing Caro, Channel 221A and add Cass City, Channel 221C3.

Federal Communications Commission.
John A. Karousos,
Chief, Allocations Branch, Policy and Rules Division, Mass Media Bureau.

[FR Doc. 01-13452 Filed 5-29-01; 8:45 am]

BILLING CODE 6712-01-P